DEPARTMENT OF HEALTH AND HUMAN SERVICES

Centers for Disease Control and Prevention

[30Day-20-20KW]

Agency Forms Undergoing Paperwork Reduction Act Review

In accordance with the Paperwork Reduction Act of 1995, the Centers for Disease Control and Prevention (CDC) has submitted the information collection request titled “School Health Profiles Test-Retest Reliability Study” to the Office of Management and Budget (OMB) for review and approval. CDC previously published a “Proposed Data Collection Submitted for Public Comment and Recommendations” notice on March 16, 2020 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

School Health Profiles Test-Retest Reliability Study—New—National Center for HIV/AIDS, Viral Hepatitis, STD, and TB Prevention (NCHHSTP), Centers for Disease Control and Prevention (CDC).

Background and Brief Description

The purpose of this request is to obtain OMB approval to conduct the School Health Profiles Test-Retest Reliability Study to establish the reliability of the School Health Profiles (“Profiles”). Profiles is a system of school-based surveys conducted by state and local education and health agencies among school principals and lead health education teachers at the secondary school level to assess school health policies and practices related to health education, physical education and physical activity, tobacco use prevention, nutrition, school-based health services, family and community involvement in school health, and school health coordination. CDC seeks a one-year approval to conduct the School Health Profiles Test-Retest Reliability Study.

Profiles surveys are administered widely. In 2018, 48 states, 21 large urban school districts, and two territories conducted School Health Profiles. Across all of these jurisdictions, questionnaires were completed by approximately 10,000 principals and by approximately 9,000 lead health education teachers. States and large urban school districts use Profiles as a data source for performance measures for two CDC cooperative agreements: CDC-RFA-PS18-1807, Promoting Adolescent Health Through School-Based HIV Prevention (PS18-1807), and CDC-RFA-DP18-1801 Improving Student Health and Academic Achievement Through Nutrition, Physical Activity and the Management of Chronic Conditions in Schools (DP18-1801). No other surveillance system measures school health policies and programs nationwide.

Between January and June of 2021, approximately 200 principals and 200 lead health education teachers from regular public secondary schools in the United States containing at least one of grades 6 through 12 will complete both a Time 1 and Time 2 Profiles questionnaire. Five questions will be added at the end of both the principal and lead health education teacher questionnaires at the Time 2 administration to gather data on why responses to the same questions may have changed or stayed the same between the two administrations.

There are no costs to respondents except their time. The total estimated annualized burden hours are 686. OMB approval is requested for one year. Participation is voluntary.

Estimated Annualized Burden Hours
Type of respondents | Form name | Number of respondents | Number of responses per respondent | Average burden per response (in hours)
School Principal | School Principal Questionnaire Time 1 | 200 | 1 | 45/60
School Principal | Nonresponse follow-up call | 150 | 1 | 5/60
School Principal | School Principal Questionnaire Time 2 | 200 | 1 | 45/60
School Principal | School Principal Supplemental Questions | 200 | 1 | 5/60
School Principal | Nonresponse follow-up call | 150 | 1 | 5/60
Lead Health Education Teacher | Lead Health Education Teacher Questionnaire Time 1 | 200 | 1 | 45/60
Lead Health Education Teacher | Nonresponse follow-up call | 150 | 1 | 5/60
Lead Health Education Teacher | Lead Health Education Teacher Questionnaire Time 2 | 200 | 1 | 45/60
Lead Health Education Teacher | Lead Health Education Teacher Supplemental Questions | 200 | 1 | 5/60
Lead Health Education Teacher | Nonresponse follow-up call | 150 | 1 | 5/60

Jeffrey M. Zirger,
Lead, Information Collection Review Office, Office of Scientific Integrity, Office of Science, Centers for Disease Control and Prevention.

[FR Doc. 2020-19744 Filed 9-4-20; 8:45 am]

BILLING CODE 4163-18-P